CONSUMER PRODUCT SAFETY COMMISSION

[Docket No. CPSC-2012-0055]

Agency Information Collection Activities; Proposed Collection; Comment Request; Flammability Standards for Children's Sleepwear

AGENCY: Consumer Product Safety Commission.

ACTION: Notice.

SUMMARY: As required by the Paperwork Reduction Act of 1995, the Consumer Product Safety Commission (CPSC) requests comments on a proposed extension of approval of a collection of information associated with the Standard for the Flammability of Children's Sleepwear: Sizes 0 Through 6X; and the Standard for the Flammability of Children's Sleepwear: Sizes 7 Through 14, approved previously under OMB Control No. 3041-0027. The CPSC will consider all comments received in response to this notice before requesting an extension of this collection of information from the Office of Management and Budget (OMB).

DATES: Submit written or electronic comments on the collection of information by May 13, 2019.

ADDRESSES: You may submit comments, identified by Docket No. CPSC-2012-0055, by any of the following methods:

Electronic Submissions: Submit electronic comments to the Federal eRulemaking Portal at: http://www.regulations.gov. Follow the instructions for submitting comments. The CPSC does not accept comments submitted by electronic mail (email), except through www.regulations.gov. The CPSC encourages you to submit electronic comments by using the Federal eRulemaking Portal, as described above.

Written Submissions: Submit written submissions by mail/hand delivery/courier to: Division of the Secretariat, Consumer Product Safety Commission, Room 820, 4330 East-West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number CPSC-2012-0055, into the “Search” box, and follow the prompts.

FOR FURTHER INFORMATION CONTACT: Bretford Griffin, Consumer Product Safety Commission, 4330 East-West Highway, Bethesda, MD 20814; (301) 504-7037, or by email to: bgriffin@cpsc.gov.

SUPPLEMENTARY INFORMATION: CPSC seeks to renew the following currently approved collection of information:

Title: Standard for the Flammability of Children's Sleepwear: Sizes 0 Through 6X; and the Standard for the Flammability of Children's Sleepwear: Sizes 7 Through 14.

OMB Number: 3041-0027.

Type of Review: Renewal of collection.

Frequency of Response: On occasion.

Affected Public: Manufacturers and importers of children's sleepwear.

Estimated Number of Respondents: Based on a review of past firm inspections, and published industry information, staff estimates that there could be as many as 981 domestic children's apparel manufacturers in the U.S. subject to the rule. However, not all of these manufacturers will produce children's sleepwear. Therefore, this figure is likely an overestimate of the actual number of firms performing tests and creating records in a given year. Furthermore, using the Harmonized Tariff System (HTS) codes for children's sleepwear, staff found approximately 3,037 importers that supply children's sleepwear to the U.S. market. However, many of the 981 domestic manufacturers, along with many large U.S. retailers, may be among the importers, and result in an overstatement of firms subject to the rule. If all 981 U.S. producers and all 3,037 importers introduced new children's sleepwear garments each year, the total number of firms subject to the CPSC recordkeeping requirements each year would be 4,018 (981 + 3,037).

Estimated Time per Response: Testing and recordkeeping of each item is approximately 3 hours.

Total Estimated Annual Burden: The 50 largest domestic manufacturers and the 100 largest importers may each introduce an average of 100 new children's sleepwear items annually. The annual burden for the 50 large domestic manufacturers and the 100 largest importers is estimated at 45,000 hours for testing and recordkeeping (150 firms × 100 items × 3 hours). Staff estimates that the remaining 931 manufacturers and 2,937 importers may each introduce an average of 10 new children's sleepwear items, for a total testing and recordkeeping burden of 116,040 hours (3,868 × 10 items × 3 hours.) Therefore, the total estimated potential annual burden imposed by the standard and regulations on all manufacturers and importers of children's sleepwear will be about 161,040 hours (45,000 + 116,040).

Description of Collection: The Standard for the Flammability of Children's Sleepwear: Sizes 0 through 6X (16 CFR part 1615) and the Standard for the Flammability of Children's Sleepwear: Sizes 7 through 14 (16 CFR part 1616) address the fire hazard associated with small-flame ignition sources for children's sleepwear manufactured for sale in, or imported into, the United States. The standards also require manufacturers and importers of children's sleepwear to collect information resulting from product testing, and maintenance of the testing records. 16 CFR part 1615, subpart B; 16 CFR part 1616; subpart B.

Request for Comments

The CPSC solicits written comments from all interested persons about the proposed collection of information. The CPSC specifically solicits information relevant to the following topics:

—Whether the collection of information described above is necessary for the proper performance of the CPSC's functions, including whether the information would have practical utility;

—Whether the estimated burden of the proposed collection of information is accurate;

—Whether the quality, utility, and clarity of the information to be collected could be enhanced; and

—Whether the burden imposed by the collection of information could be minimized by use of automated, electronic or other technological collection techniques, or other forms of information technology.

Alberta E. Mills,
Secretary, Consumer Product Safety Commission.

[FR Doc. 2019-04687 Filed 3-13-19; 8:45 am]

BILLING CODE 6355-01-P